DEPARTMENT OF DEFENSE

Office of the Secretary

[No. DoD-2007-HA-0056]

Proposed New Collection; Comment Request

AGENCY: Office of the Assistant Secretary of Defense for Health Affairs, DoD.

ACTION: Notice.

In compliance with Section 3506(c)(2)(A) of the Paperwork Reduction Act of 1995, the Office of the Assistant Secretary of Defense for Health Affairs announces a proposed new public information collection and seeks public comment on the provisions thereof. Comments are invited on: (a) Whether the proposed collection of information from participation in focus groups is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 31, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Mike O'Bar at the TRICARE Management Activity, Skyline 6, Suite 306, 5111 Leesburg Pike, Falls Church, VA 22041. Phone number: 703-681-0039.

Title; Associated Form; and OMB Number: Facilitating Provider Acceptance of TRICARE Standard.

Needs and Uses: The information collection requirement is necessary to obtain specific responses why some providers do not participate in TRICARE and then to learn what kinds of actions by the TRICARE Management Activity, working in conjunction with the TRICARE Regional Offices and the three managed care support contractors, would be required to increase the numbers of providers in the TRICARE program.

Affected Public: Physician practice offices.

Annual Burden Hours: 72.

Number of Participants: 72.

Responses Per Participant: 1.

Average Burden Per Participant: 1 hour.

Frequency: One-time.

SUPPLEMENTARY INFORMATION:

Summary of Information Collection

Participants are the business or office managers who deal with the insurance companies and other payers (such as Medicaid or Medicare) for health care services in the offices of private practice physicians. The CNA Corporation, as the contractor for the TRICARE Management Activity, within the Office of the Assistant Secretary of Defense for Health Affairs, plans to hold a series of focus groups with these managers or related members of the business staff. The focus groups will form an important part of the analyses that CNA plans to conduct of the responses and concerns of providers as regards participation in the TRICARE program. The providers' staff responses will also allow CNA to formulate recommendations of how to increase provider participation in TRICARE Standard.

Dated: May 21, 2007.
Patricia L. Toppings,
Alternate OSD Federal Register Liaison Officer, Department of Defense.

[FR Doc. 07-2706 Filed 5-31-07; 8:45 am]

BILLING CODE 5001-06-M